DEPARTMENT OF AGRICULTURE

Forest Service

Eastern Idaho Resource Advisory Committee; Caribou-Targhee National Forest, Idaho Falls, ID

AGENCY: Forest Service, USDA.

ACTION: Notice of meeting.

SUMMARY: Pursuant to the authorities in the Federal Advisory Committee Act (Pub. L. 92-463) and under the Secure Rural Schools and Community Self-Determination Act of 2000 (Pub. L. 106-393) the Caribou-Targhee National Forests' Eastern Idaho Resource Advisory Committee will meet Tuesday, November 10, 2009 in Idaho Falls for a 2009 Informational meeting. The meeting is open to the public.

DATES: The meeting will be held on November 10, 2009 from 10 a.m. to 3 p.m.

ADDRESSES: The meeting location is the Caribou-Targhee National Forest, 1405 Hollipark Drive, Idaho Falls, ID 83401.

FOR FURTHER INFORMATION CONTACT: Brent Larson, Caribou National Forest Supervisor and Designated Federal Officer, at (208) 524-7500.

SUPPLEMENTARY INFORMATION: The 2009 informational meeting on November 10, 2009, begins at 10 a.m., at the Caribou National Forest, 1405 Ballpark Drive, Idaho Falls, ID 83401.

Dated: October 22, 2009.
Robbert Mickelsen,
Staff Ecosystem Manager.

[FR Doc. E9-26798 Filed 11-6-09; 8:45 am]

BILLING CODE M